ENVIRONMENTAL PROTECTION AGENCY

40 CFR Part 52

[EPA-R09-OAR-2012-0345; FRL-9671-2]

State of Hawaii; Regional Haze Federal Implementation Plan

AGENCY: Environmental Protection Agency (EPA).

ACTION: Announcement of public hearing.

SUMMARY: EPA is announcing that public hearings will be held on May 31, 2012 and June 1, 2012 for the proposed rule, “State of Hawaii; Regional Haze Federal Implementation Plan”, which will be posted on EPA's Web site by May 16, 2012.

DATES: The public hearings will be held on May 31, 2012 and June 1, 2012. See Supplementary Information section for further details about the public hearings.

ADDRESSES: See SUPPLEMENTARY INFORMATION section for hearing locations.

FOR FURTHER INFORMATION CONTACT: If you have questions about the public hearings, please contact Gregory Nudd, EPA Region 9, 415-947-4107, nudd.gregory@epa.gov. If you are a person with a disability under the ADA and require a reasonable accommodation for this event, please contact Philip Kum at kum.philip@epa.gov or at (415) 947-3566 by May 16, 2012.

SUPPLEMENTARY INFORMATION: Section 169A of the Clean Air Act (CAA) establishes as a national goal the “prevention of any future, and the remedying of any existing, impairment of visibility in mandatory Class I Federal areas which impairment results from manmade air pollution.” Hawaii has two Class I areas: Hawaii Volcanoes National Park on the Big Island and Haleakala National Park on Maui.

Regional haze is visibility impairment caused by the cumulative air pollutant emissions from numerous sources over a wide geographic area. EPA's proposed Regional Haze Federal Implementation Plan (FIP) for Hawaii will address the requirements of the CAA and EPA's regulations regarding regional haze. The proposed rule, “State of Hawaii; Regional Haze Federal Implementation Plan”, will be available by May 16, 2012 on the following Web site: http://www.epa.gov/region9/air/actions/hawaii.html and will subsequently be published in the Federal Register.

The proposed rule and information on which the proposed rule relies will also be available in the docket for this action. Generally, documents in the docket for this action will be available electronically at www.regulations.gov and in hard copy at EPA Region IX, 75 Hawthorne Street San Francisco, California. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

Public hearings: EPA will hold two public hearings at the following dates, times and locations to accept oral and written comments into the record:

Date: May 31, 2012.

Time: Open House: 5:30-6:30 p.m.

Public Hearing: 6:30-8:30 p.m.

Location: The University of Hawaii, Maui College in the Pilina Multipurpose Room, 310 W. Kaahumanu Ave., Kahului, Hawaii 96732.

Date: June 1, 2012.

Time: Open House: 4:30-5:30 p.m.

Public Hearing: 5:30-7:30 p.m.

Location: Waiakea High School in the Cafeteria, 155 W. Kawili St., Hilo, Hawaii 96720.

To provide opportunities for questions and discussion, EPA will hold open houses prior to the public hearings. During these open houses, EPA staff will be available to informally answer questions on our proposed action and this supplemental proposed rule. Any comments made to EPA staff during the open houses must still be provided formally in writing or orally during a public hearing in order to be considered in the record.

The public hearings will provide the public with an opportunity to present data, views, or arguments concerning the proposed Regional Haze FIP for Hawaii. EPA may ask clarifying questions during the oral presentations, but will not respond to the presentations at that time. Written statements and supporting information submitted during the comment period will be considered with the same weight as any oral comments and supporting information presented at the public hearing. Please consult the proposed rule for guidance on how to submit written comments to EPA.

At the public hearing, the hearing officer may limit the time available for each commenter to address the proposal to five minutes or less if the hearing officer determines it is appropriate. Any person may provide written or oral comments and data pertaining to our proposal at the public hearing. We will include verbatim transcripts, in English, of the hearing and written statements in the rulemaking docket.

Dated: May 1, 2012.
Elizabeth Adams,
Acting Air Division Director, Region IX.

[FR Doc. 2012-11426 Filed 5-10-12; 8:45 am]

BILLING CODE 6560-50-P